OFFICE OF SCIENCE AND TECHNOLOGY POLICY

Performance Review Board Membership

AGENCY: Office of Science and Technology Policy.

ACTION: Notice.

SUMMARY: The Office of Science and Technology Policy publishes the names of the members selected to serve on its SES Performance Review Board (PRB).

DATES: Membership is effective on the date of this notice to January 2022.

FOR FURTHER INFORMATION CONTACT: Ms. Stacy L. Murphy, Operations Manager, Office of Science and Technology Policy, 1650 Pennsylvania Ave. NW, Washington, DC 20504. Telephone 202-456-6123.

SUPPLEMENTARY INFORMATION: 5 U.S.C. 4314(c) requires each agency to establish, in accordance with regulations prescribed by the Office of Personnel Management, one or more PRBs. The purpose of this PRB is to review and make recommendations concerning proposed performance appraisals, ratings, bonuses, pay adjustments, and other appropriate personnel actions for incumbents of the SES positions. The Board shall consist of at least three members and more than half of the members shall consist of career appointees. The names and titles of the PRB members are as follows:

Fred L. Ames, Assistant United States Trade Representative for Administration, United States Trade Representative;

Jared L. Ostermiller, Chief, Health Insurance and Data Analysis Branch, Office of Management and Budget;

Michele C. Marx, Deputy Assistant Director for Budget, Office of National Drug Council Policy;

John C. Pasquantino, Deputy Associate Director, Energy, Science, and Water, Office of Management and Budget.

Stacy Murphy,
Operations Manager.

[FR Doc. 2020-01390 Filed 1-27-20; 8:45 am]

BILLING CODE 3270-F0-P